DEPARTMENT OF COMMERCE

National Oceanic and Atmospheric Administration

RIN: 0648-XY00

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Scientific and Statistical Committee, on August 24-26, 2010, to consider actions affecting New England fisheries in the exclusive economic zone (EEZ). Recommendations from this group will be brought to the full Council for formal consideration and action, if appropriate.

DATES: This meeting will be held on Tuesday, August 24 at 10 a.m. and Wednesday and Thursday, August 25-26, 2010 at 8:30 a.m.

ADDRESSES: The meeting will be held at the Langham Hotel, 250 Franklin Street, Boston, MA 02110; telephone: (617) 451-1900; fax: (617) 482-7949.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION:

Tuesday, August 24, 2010

The Scientific and Statistical Committee (SSC) will discuss business concerning upcoming meetings, committee membership and tasks for the next meeting; develop an updated Acceptable Biological Catch (ABC) recommendation for the monkfish resource, based on the 2010 Stock Assessment Review Committee findings.

Wednesday, August 25, 2010

The SSC will develop an ABC recommendation for sea scallops for fishing years 2011-12 based on the previously approved ABC control rule; evaluate applications(s) of the Swept Area Seabed Impact (SASI) model for use in developing management alternatives for Phase 2 of the Council's Omnibus Habitat Amendment 2, including the appropriateness of Local Indicators of Spatial Association or LISA, spatial analysis methods for defining clusters of high Z, and the appropriateness of the Z Net Stock model for comparing practicability among management alternatives; develop recommendations for ABCs for several groundfish stocks including pollock, Gulf of Maine winter flounder, both northern and southern windowpane flounder, ocean pout and Georges Bank yellowtail flounder.

Thursday, August 26, 2010

The SSC will complete the development of ABCs for the groundfish stocks identified above.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: August 2, 2010.
Tracey L. Thompson,
Acting Director, Office of Sustainable Fisheries, National Marine Fisheries Service.

[FR Doc. 2010-19305 Filed 8-4-10; 8:45 am]

BILLING CODE 3510-22-S